DEPARTMENT OF TRANSPORTATION

Surface Transportation Board

[Docket No. FD 35917]

LEWPAC, LLC—Lease and Operation Exemption—Mount Vernon Terminal Railway LLC

LEWPAC, LLC (LP), a noncarrier, has filed a verified notice of exemption under 49 CFR 1150.31 to lease from Mount Vernon Terminal Railway LLC (MVTR), and to operate, a 0.47-mile line of railroad between milepost 1.172 and milepost 1.642 in Skagit County, Wash.

LP certifies that the projected annual revenues as a result of this transaction will not result in LP's becoming a Class I or Class II rail carrier and will not exceed $5 million. LP states that there are no agreements applicable to the line imposing any interchange commitments. LP also states that the line connects with the BNSF Railway Company's Bellingham Subdivision at milepost 70 in Mount Vernon, Wash.

The proposed transaction may be consummated on or after June 4, 2015, the effective date of this exemption (30 days after the verified notice was filed).¹ If the verified notice contains false or misleading information, the exemption is void ab initio. Petitions to revoke the exemption under 49 U.S.C. 10502(d) may be filed at any time. The filing of a petition to revoke will not automatically stay the effectiveness of the exemption. Petitions to stay must be filed by May 28, 2015 (at least seven days prior to the date the exemption becomes effective).

¹ LP initially filed its verified notice of exemption on May 5, 2015. On May 6 and May 13, 2015, it submitted filings correcting the milepost descriptions in the cover sheet to Exhibit A and in the text of the verified notice, respectively.

An original and 10 copies of all pleadings, referring to Docket No. FD 35917, must be filed with the Surface Transportation Board, 395 E Street SW., Washington, DC 20423-0001. In addition, a copy of each pleading must be served on applicant's representative, John D. Heffner, Strasburger & Price, LLP, 1025 Connecticut Ave. NW., Suite 717, Washington, DC 20036.

Board decisions and notices are available on our Web site at WWW.STB.DOT.GOV.

Decided: May 18, 2015.
By the Board, Rachel D. Campbell, Director, Office of Proceedings.
Raina S. Contee,
Clearance Clerk.

[FR Doc. 2015-12368 Filed 5-20-15; 8:45 am]

BILLING CODE 4915-01-P